DEPARTMENT OF ENERGY

Federal Energy Regulatory Commission

[Docket No. OR07-9-000]

BP West Coast Products LLC, Complainant v. SFPP, L.P., Respondents; Notice of Complaint

May 7, 2007.

Take notice that on May 3, 2007, pursuant to Rule 206 of the Federal Energy Regulatory Commission's (Commission) Rules and Practice and Procedure, section 343.3 of the Commission's Procedural Rules, sections 1(5), 8, 9, 13, 15, and 16 of the Interstate Commerce Act, and section 1803 of the Energy Policy Act of 1992, BP West Coast Products LLC (Complainant) filed a formal complaint against SFPP, L.P. (Respondent) requesting the Commission to review and reject the Respondent's Ultra Low Sulfur Diesel surcharge submitted to the Commission on March 1, 2007, in Docket No. IS07-137-000, alleging it is contrary to the Commission's regulations and is in violation of the doctrine of retroactive ratemaking. The Respondent also requests the Commission to handle this Complaint under its fast track procedures.

The Complainant states that copies of the Complaint were served on the Respondent.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on May 23, 2007.

Kimberly D. Bose,
Secretary.

[FR Doc. E7-9191 Filed 5-11-07; 8:45 am]

BILLING CODE 6717-01-P